DEPARTMENT OF TRANSPORTATION

Federal Aviation Administration

14 CFR Part 71

[Docket No. FAA-2017-0666; Airspace Docket No. 17-ANM-15]

Amendment of Class D and Class E Airspace; Pueblo, CO

AGENCY: Federal Aviation Administration (FAA), DOT.

ACTION: Final rule.

SUMMARY: This action amends Class D airspace, Class E surface area airspace, and Class E airspace upward from 700 feet above the surface at Pueblo Memorial Airport, Pueblo, CO. Also, the part-time Notice to Airmen (NOTAM) information is removed from Class E airspace designated as an extension, and the geographic coordinates for Pueblo Memorial Airport in the associated Class D and E airspace areas are amended to match the FAA's aeronautical database. A biennial review found these changes are necessary to accommodate airspace redesign for the safety and management of Instrument Flight Rules (IFR) operations within the National Airspace System. An editorial change also is made to the Class D airspace and Class E surface area airspace legal descriptions replacing “Airport/Facility Directory” with the term “Chart Supplement.”

DATES: Effective 0901 UTC, February 1, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 1601 Lind Avenue SW., Renton, WA 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Pueblo Memorial Airport, Pueblo, CO, in support of instrument flight rules operations at the airport.

History

On August 3, 2017, the FAA published in the Federal Register (82 FR 36103) Docket FAA-2017-0666, a notice of proposed rulemaking to modify Class D airspace, Class E surface area airspace, Class E airspace designated as an extension, and Class E airspace extending upward from 700 feet above the surface at Pueblo Memorial Airport, Pueblo, CO. Interested parties were invited to participate in this rulemaking effort by submitting written comments on the proposal to the FAA. No comments were received.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by modifying Class D airspace, Class E surface area airspace, Class E airspace designated as an extension, and Class E airspace extending upward from 700 feet above the surface at Pueblo Memorial Airport, Pueblo, CO.

Class D airspace and Class E surface area airspace are reduced to within a 5.1-mile radius (from 5.6 miles) of Pueblo Memorial Airport.

The Class E airspace designated as an extension to a Class D or Class E surface area east of the airport is modified to a 7.2 mile wide segment (from 7 miles) extending to 11.3 miles (from 11.4 miles) east of the airport; the segment west of the airport is removed as it is not necessary to support current operations; and a segment is established north of the airport within 1.6 miles west and 1.3 miles east of the 358° bearing from the airport extending from the 5.1 mile radius to 6.7 miles north of the airport.

Also, this action eliminates the following language from the legal description of Class E airspace designated as an extension to a Class D or Class E surface area at the airport: “This Class E airspace is effective during the specific dates and times established in advance by a Notice to Airmen. The effective date and time will thereafter be continuously published in the Airport/Facility Directory,” since the airspace remains in effect full time.

Class E airspace extending upward from 700 feet is reduced to within a 7.6-mile radius of the Pueblo Memorial Airport with extensions to 12 miles north and 12.3 miles east of the airport (from a 21.8-mile radius with an extension to 28.2 miles east). Also, this action removes Class E airspace extending upward from 1,200 feet above the surface since the airspace is wholly contained within the Denver Class E en route airspace area and duplication is not necessary.

Additionally, this action updates the geographic coordinates for Pueblo Memorial Airport and replaces the outdated term “Airport/Facility Directory” with the term “Chart Supplement” in the associated Class D and Class E airspace legal descriptions. This airspace redesign is necessary for the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 5000 Class D Airspace.

* * * * *

ANM CO D Pueblo, CO [Amended]

Pueblo Memorial Airport, CO

(Lat. 38°17′24″ N., long. 104°29′53″ W.)

That airspace extending upward from the surface to and including 7,200 feet MSL within a 5.1-mile radius of Pueblo Memorial Airport. This Class D airspace area is effective during the specific dates and times established in advance by a Notice to Airmen. The effective date and time will thereafter be continuously published in the Chart Supplement.

Paragraph 6002 Class E Airspace Designated as Surface Areas.

* * * * *

ANM CO E2 Pueblo, CO [Amended]

Pueblo Memorial Airport, CO

(Lat. 38°17′24″ N., long. 104°29′53″ W.)

That airspace extending upward from the surface within a 5.1-mile radius of Pueblo Memorial Airport. This Class E airspace area is effective during the specific dates and times established in advance by a Notice to Airmen. The effective date and time will thereafter be continuously published in the Chart Supplement.

Paragraph 6004 Class E Airspace Designated as an Extension to a Class D or Class E Surface Area.

* * * * *

ANM CO E4 Pueblo, CO [Amended]

Pueblo Memorial Airport, CO

(Lat. 38°17′24″ N., long. 104°29′53″ W.)

That airspace extending upward from 700 feet above the surface within 3.6 miles each side of the 081° bearing from Pueblo Memorial Airport extending from the 5.1-mile radius of the airport to 11.3 miles east of the airport, and within 1.6 miles west and 1.3 miles east of the 358° bearing from the airport extending from the 5.1-mile radius of the airport to 6.7 miles north of the airport.

Paragraph 6005 Class E Airspace Areas Extending Upward From 700 Feet or More Above the Surface of the Earth.

* * * * *

ANM CO E5 Pueblo, CO [Amended]

Pueblo Memorial Airport, CO

(Lat. 38°17′24″ N., long. 104°29′53″ W.)

That airspace upward from 700 feet above the surface within a 7.6-mile radius of Pueblo Memorial Airport, and within 2.2 miles west and 1.8 miles east of the 358° bearing from the airport extending to 12 miles north of the airport, and within 3.8 miles each side of the 081° bearing from the airport extending to 12.3 miles east of the airport.

Issued in Seattle, Washington, on November 14, 2017.
Brian J. Johnson,
Acting Manager, Operations Support Group, Western Service Center.

[FR Doc. 2017-25310 Filed 11-24-17; 8:45 am]

BILLING CODE 4910-13-P